DEPARTMENT OF STATE

[Public Notice 4502]

Bureau of Political-Military Affairs; 30-Day Notice of Proposed Information Collection: Form DS-4028, Request for Approval of Technical Assistance Agreement Cover Letter; Form DS-4029, Request for Approval of Technical Assistance Agreement; OMB Control Number 1405-0148

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of a Currently Approved Collection.

Originating Office: Bureau of Political-Military Affairs, Directorate of Defense Trade Controls, PM/DDTC.

Title of Information Collection: Request for Approval of Technical Assistance Agreement Cover Letter and Request for Approval of Technical Assistance Agreement.

Frequency: On occasion.

Form Number: DS-4028 and DS-4029.

Respondents: Businesses.

Estimated Number of Respondents: 13.

Average Hours Per Response: 2 hours.

Total Estimated Burden: 2,000 hours, (Total Estimated Burden based on number of forms received per year.)

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Michael T. Dixon, Director, Office of Defense Trade Controls Management, Directorate of Defense Trade Controls, Bureau of Political-Military Affairs, SA-1, Room H1200, 2401 E Street, NW., Washington, DC 20522-0112; (202) 663-2700. Public comments and questions should be directed to State Department Desk Officer, Office of Information and Regulatory Affairs, Office of Management and Budget (OMB), Washington, DC 20530, who may be reached on (202) 395-3897.

Dated: September 16, 2003.
Gregory M. Suchan,
Deputy Assistant Secretary for Defense Trade Controls, Bureau of Political-Military Affairs, Department of State.

[FR Doc. 03-25022 Filed 10-1-03; 8:45 am]

BILLING CODE 4710-25-P